DEPARTMENT OF TRANSPORTATION

Federal Aviation Administration

14 CFR Part 39

[Docket No. FAA-2016-7057; Directorate Identifier 2016-CE-017-AD; Amendment 39-18557; AD 2016-12-08]

RIN 2120-AA64

Airworthiness Directives; GROB Aircraft AG Airplanes

AGENCY: Federal Aviation Administration (FAA), DOT.

ACTION: Final rule; request for comments.

SUMMARY: We are adopting a new airworthiness directive (AD) for GROB Aircraft AG Model G115EG airplanes. This AD results from mandatory continuing airworthiness information (MCAI) issued by the aviation authority of another country to identify and correct an unsafe condition on an aviation product. The MCAI describes the unsafe condition as cracks in the bonded joint of the rear horizontal stabilizer frame. We are issuing this AD to require actions to address the unsafe condition on these products.

DATES: This AD is effective July 20, 2016.

The Director of the Federal Register approved the incorporation by reference of a certain publication listed in the AD as of July 20, 2016.

We must receive comments on this AD by August 1, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact GROB Aircraft AG, Product Support, Lettenbachstrasse 9, D-86874 Tussenhausen-Mattsies, Germany, telephone: + 49 (0) 8268-998-105; fax: + 49 (0) 8268-998-200; email: productsupport@grob-aircraft.com; Internet: grob-aircraft.com. You may review copies of the referenced service information at the FAA, Small Airplane Directorate, 901 Locust, Kansas City, Missouri 64106. For information on the availability of this material at the FAA, call (816) 329-4148. It is also available on the Internet at http://www.regulations.gov by searching for locating Docket No. FAA-2016-7057.

Examining the AD Docket

You may examine the AD docket on the Internet at http://www.regulations.gov by searching for and locating Docket No. FAA-2016-7057; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

The European Aviation Safety Agency (EASA), which is the Technical Agent for the Member States of the European Community, has issued EASA AD No.: 2016-0091, dated May 16, 2016 (referred to after this as “the MCAI”), to correct an unsafe condition for the specified products. The MCAI states:

Cracks were found in the bonded joint of the rear horizontal stabiliser frame of G 115E aeroplanes.

This condition, if not detected and corrected, may lead to crack propagation into primary structural elements, with detrimental effect on the structural integrity of the aeroplane.

To address this potential unsafe condition, GROB issued Service Bulletin (SB) MSB1078-200 (hereafter referred to as “the SB” in this AD) to provide instructions for inspections and corrective action.

For the reason described above, this AD requires repetitive inspections of the rear horizontal stabilizer frame and modification of the affected structure.

You may examine the MCAI on the Internet at http://www.regulations.gov by searching for and locating Docket No. FAA-2016-7057.

Related Service Information Under 1 CFR Part 51

GROB Aircraft AG has issued Service Bulletin No. MSB1078-200, dated February 25, 2016. The service information describes procedures for repetitive inspections of the rear horizontal stabilizer frame for cracks and procedures for repair if necessary. This service information is reasonably available because the interested parties have access to it through their normal course of business or by the means identified in the ADDRESSES section of the AD.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because there are no airplanes currently on the U.S. registry and thus, does not have any impact upon the public. Therefore, we find that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2016-7057; Directorate Identifier 2016-CE-017-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 0 products of U.S. registry. We also estimate that it would take about 2 work-hours per product to comply with the basic requirements of this AD. The average labor rate is $85 per work-hour.

Based on these figures, we estimate the cost of the AD on U.S. operators to be $0, or $170 per product.

In addition, we estimate that any necessary follow-on actions would take about 15 work-hours and require parts costing $60, for a cost of $1,335 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2016-12-08 GROB Aircraft AG: Amendment 39-18557; Docket No. FAA-2016-7057; Directorate Identifier 2016-CE-017-AD.

(a) Effective Date

This airworthiness directive (AD) becomes effective July 20, 2016.

(b) Affected ADs

None.

(c) Applicability

This AD applies to Grob Aircraft AG Models G115EG airplanes, serial numbers up to and including 82323/E, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as cracks in the bonded joint of the rear horizontal stabilizer frame. We are issuing this AD to detect and correct cracks in the bonded joint of the rear horizontal stabilizer frame, which if not corrected could propagate into the primary structural elements of the airplane and affect its structural integrity.

(f) Actions and Compliance

Unless already done, do the actions in paragraphs (f)(1) through (6) of this AD.

(1) Within the next 50 hours time-in-service (TIS) after July 20, 2016 (the effective date of this AD), and repetitively thereafter at intervals not to exceed 50 hours, inspect the rear horizontal stabilizer frame following the Accomplishment Instructions in section 1.8, Part A, of GROB Aircraft AG Service Bulletin (SB) No. MSB1078-200, dated February 25, 2016.

(2) If any crack within the green area as defined in Figure 2 of the Accomplishment Instructions in section 1.8, Part A, of GROB Aircraft AG Service Bulletin (SB) No. MSB1078-200, dated February 25, 2016, is found during any inspection required in paragraph (f)(1) of this AD, before further flight, install a temporary placard stating “NO AEROBATICS, NO SPINS AND NO SIDE SLIPS ALLOWED” in full view of the pilot(s) and place a copy of this AD in the airplane flight manual (AFM); and after each day of flight operations, do a crack propagation inspection following the Accomplishment Instructions in Section 1.8, Part B, of GROB Aircraft AG SB No. MSB1078-200, dated February 25, 2016.

(3) If any crack within the red area as defined in Figure 2 of the Accomplishment Instructions in section 1.8, Part A, of GROB Aircraft AG Service Bulletin (SB) No. MSB1078-200, dated February 25, 2016, is found during any inspection required by this AD, before further flight, repair the affected area following the Accomplishment Instructions in Section 1.8, Part C, of GROB Aircraft AG SB No. MSB1078-200, dated February 25, 2016.

(4) Within the next 19 months after July 20, 2016 (the effective date of this AD), unless already done as required by paragraph (f)(3) of this AD, modify the airplane following the Accomplishment Instructions in Section 1.8, Part C, of GROB Aircraft AG SB No. MSB1078-200, dated February 25, 2016.

(5) After modification of the airplane as required by paragraph (f)(3) or (4) of this AD, remove the placard installed as required in paragraph (f)(2) of this AD and remove the copy of this AD from the applicable AFM.

(6) Modification of an airplane as required in paragraph (f)(3) or (4) of this AD, as applicable, constitutes terminating action for the repetitive inspections required in paragraph (f)(1) and (2) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2016-0091, dated May 16, 2016, for related. You may examine the MCAI on the Internet at http://www.regulations.gov by searching for and locating Docket No. FAA-2016-7057.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GROB Aircraft AG Service Bulletin No. MSB1078-200, dated February 25, 2016.

(ii) Reserved.

(3) For GROB Aircraft AG service information identified in this AD, contact GROB Aircraft AG, Product Support, Lettenbachstrasse 9, D-86874 Tussenhausen-Mattsies, Germany, telephone: + 49 (0) 8268-998-105; fax: + 49 (0) 8268-998-200; email: productsupport@grob-aircraft.com; Internet: grob-aircraft.com.

(4) You may view this service information at the FAA, Small Airplane Directorate, 901 Locust, Kansas City, Missouri 64106. For information on the availability of this material at the FAA, call (816) 329-4148. It is also available on the Internet at http://www.regulations.gov by searching for and locating Docket No. FAA-2016-7057.

(5) You may view this service information that is incorporated by reference at the National Archives and Records Administration (NARA). For information on the availability of this material at NARA, call 202-741-6030, or go to: http://www.archives.gov/federal-register/cfr/ibr-locations.html.

Issued in Kansas City, Missouri, on June 6, 2016.
Robert Busto,
Acting Manager, Small Airplane Directorate, Aircraft Certification Service.

[FR Doc. 2016-13853 Filed 6-14-16; 8:45 am]

BILLING CODE 4910-13-P